DEPARTMENT OF TRANSPORTATION

Federal Aviation Administration

Eighty-Sixth Meeting: RTCA Special Committee 159: Global Positioning System (GPS)

AGENCY: Federal Aviation Administration (FAA), DOT.

ACTION: Notice of RTCA Special Committee 159 meeting: Global Positioning System (GPS).

SUMMARY: The FAA is issuing this notice to advise the public of a meeting of RTCA Special Committee 159: Global Positioning System (GPS).

DATES: The meeting will be held June 13-17, 2011, from 9 a.m. to 4:30 p.m.

ADDRESSES: The meeting will be held at RTCA, Inc., Conference Rooms, 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., App. 2), notice is hereby given for a Special Committee 159: Global Positioning System (GPS) meeting. The agenda will include:

Specific Working Group Sessions

Monday, June 13, 2011

• All Day, Working Group 2C, GPS/Inertial, Colson Board Room.

Tuesday, June 14, 2011

• All Day, Working Group 2, GPS/WAAS, Colson Board Room.

Wednesday, June 15, 2011

• All Day, Working Group 2, GPS/WAAS, Colson Board Room.

Thursday, June 16, 2011

• All Day, Working Group 4—Precision Landing Guidance (GPS/LAAS), MacIntosh—NBAA Room and Hilton—ATA Room:

• 9 a.m.-12 p.m.—Working Group 6, Interference (GPS/Interface), Colson Board Room.

• 12 p.m.-4:30 p.m.—Working Group 7, Antenna (GPS Antenna), Colson Board Room.

Plenary Session—See Agenda Below

Friday, June 17, 2011

• Chairman's Introductory Remarks.

• Approval of Summary of the Eighty-Fourth and Eighty-Fifth Meetings held February 11, 2011 and May 26, 2011, RTCA Paper No. 082-11/SC159-991 and RTCA Paper No. 099-11/SC159-995, respectively.

• Review Working Group (WG) Progress and Identify Issues for Resolution.

• GPS/3rd Civil Frequency (WG-1).

• GPS/WAAS (WG-2).

• GPS/GLONASS (WG-2A).

• GPS/Inertial (WG-2C).

• GPS/Precision Landing Guidance (WG-4).

• GPS/Airport Surface Surveillance (WG-5).

• GPS/Interference (WG-6).

• GPS/Antennas (WG-7).

• Review of EUROCAE Activities.

• ADS-B GAP Analysis Ad Hoc—Report.

• Assignment/Review of Future Work.

• Other Business.

• Date and Place of Next Meeting.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 26, 2011.
Robert L. Bostiga,
RTCA Advisory Committee.

[FR Doc. 2011-13945 Filed 6-6-11; 8:45 am]

BILLING CODE 4910-13-P